Title 3—

The President

Proclamation 9232 of February 19, 2015

Establishment of the Browns Canyon National Monument

By the President of the United States of America

A Proclamation

In central Colorado's vibrant upper Arkansas River valley, the rugged granite cliffs, colorful rock outcroppings, and stunning mountain vistas of Browns Canyon form an iconic landscape that attracts visitors from around the world. The landscape's canyons, rivers, and backcountry forests have provided a home for humans for over 10,000 years, and the cultural and historical resources found in this landscape are a testament to the area's Native Peoples as well as the history of more recent settlers and mining communities. The area's unusual geology and roughly 3,000-foot range in elevation support a diversity of plants and wildlife, including a significant herd of bighorn sheep. Browns Canyon harbors a wealth of scientifically significant geological, ecological, riparian, cultural, and historic resources, and is an important area for studies of paleoecology, mineralogy, archaeology, and climate change.

Following its descent between the Sawatch and Mosquito Ranges, the Arkansas River flows through Browns Canyon in the heart of the upper Arkansas River valley. The Arkansas River valley is the northernmost valley in the Río Grande Rift system, one of the most significant rift systems in the world and one of few where the Earth's continental crust is actively moving apart. The 35 million-year-old Río Grande Rift begins in the State of Chihuahua in Mexico and extends northward through New Mexico and into Colorado to a terminus in the mountains just north of Browns Canyon.

The Browns Canyon area of the upper Arkansas River valley has long offered both a permanent source of water and a means of transportation for its human inhabitants. The area lies within the transition zone between the cultural traditions of the Great Basin and Plains peoples. As a transportation corridor where stable sources of subsistence resources could be found, both migrating people and permanent inhabitants left traces of their presence in this area. Ancestors of the Ute, Apache, Eastern Shoshone, and Comanche Indians are known to have traversed this dramatic landscape while hunting and gathering.

The upper Arkansas River valley was foundational to the establishment of today's tribal configuration. It was here that the proto-Comanche (Numuna) split into two groups, the Comanche and the Eastern Shoshone. The Buffalo-Eater Band (allies of the Utes) broke away from the Eastern Shoshone in the upper Arkansas River valley vicinity sometime between the late 1600s and early 1700s, traveling south into what is present-day New Mexico, Texas, southern Colorado, western Kansas, and the panhandle of Oklahoma.

While most archaeological resources in the Browns Canyon area have not yet been surveyed or recorded, the story of people living in the upper Arkansas River valley is told through artifacts dating back over 10,000 years. Of the resources surveyed, there are 18 known archaeological sites within the Browns Canyon area, including 5 prehistoric open lithic sites that have been determined to be eligible for the National Register of Historic Places. Primarily seasonal camps, these sites include open campsites, culturally modified trees, wickiups, tipi rings, chipped stone manufacture and processing sites, a possible ceramic pottery kiln, and rock shelter sites that date to the Archaic Period. The sites range from early Archaic Period and possibly Paleo-Indian Period (around 8,000 to 13,000 years before present), which would make this among the earliest known sites in the region, to the Late Archaic Period to proto-historic period (around 3,000 years before present to the 19th century A.D.).

European exploration of the Browns Canyon region began when the Spanish explorer Juan de Ulibarri visited in 1706. A century later, Zebulon Pike explored the Browns Canyon area after his failed attempt to summit what is now known as Pike's Peak. During the late 18th and early 19th centuries, the Spanish army patrolled the upper Arkansas River valley as far north as Leadville to secure the boundaries of Spanish influence and attempt to bar access by competing traders and explorers. Fur trappers exploited the area in the first few decades of the 1800s. The region later became a center for mining, including one of the United States major historic mining districts for fluorite, a colorful mineral with both ornamental and industrial uses. The remnants of this area's mining history include small, abandoned mine sites, old cabin foundations, and nearby mining ghost towns.

Discovery of gold along the Arkansas River in the 1850s and the 1870s silver boom in Leadville brought an influx of people and a need for transportation. In the 1870s, stage roads carried thousands of passengers through this region every year. In the 1880s, after a multi-year legal and armed battle between rival rail companies, the Denver and Río Grande Railway became the major transportation option for the region. The section of railroad bed that runs through Browns Canyon east of the Arkansas River is eligible for listing on the National Register of Historic Places. Even today, this same upper Arkansas River valley remains a major transportation corridor for Chaffee County residents and visitors, as well as an important resource for recreational anglers and boaters, and area ranchers and farmers. Local communities have proposed and conducted a feasibility study for establishing the Arkansas Stage and Rail Trail, which would serve as a testament to this travel corridor's prehistoric and historic significance.

The 1.6 billion-year-old Precambrian granodiorite batholith that constitutes the Canyon is incised by steep gulches that cut through the pink granite and metamorphic rock. Stafford Gulch provides astounding views of the unique Reef formation, a long and distinctive face of exposed rock. During the Pleistocene Epoch, glaciers covered the rugged canyons, gulches, and mountains that awe visitors today. The movement of these glaciers created unique topographical features in the river valley—including glacial cirques, flat, mesa-like terraces, and remnants of large moraines—that are not found along other major streams in the region. While shaping the topography, the glaciers also filled the valley below with masses of sediment, including the gold, silver, and semi-precious gems that fueled the mining booms of the 1800s. These gems, including the garnets that lend their name to Ruby Mountain in the northern part of the Browns Canyon area, continue to interest professional and amateur geologists.

Portions of the Browns Canyon area offer a relative wealth of Pennsylvanian age geologic exposures of the Minturn formation and Belden shale that include a diverse assemblage of invertebrate fossils. These sites represent the accumulation of shell fossils in an ancient reef environment, and include remains of bivalves, brachiopods, gastropods, echinoids, nautiloids, conodonts, crinoids, bryozoans, and vertebrates including sharks and bony fish. Many of the fossil forms remain undescribed and will form the basis for future paleontological research.

The topographic and geologic diversity of the Browns Canyon area has given rise to one of the most significant regions for biodiversity in Colorado. The forest community incorporates a transition zone, with semi-arid pinyon-juniper and mountain mahogany woodlands on the lower slopes giving way to ponderosa pine, Rocky Mountain bristlecone pine, and Douglas fir at higher elevations. Scattered pockets of aspen, willow, Rocky Mountain juniper, river birch, and narrowleaf cottonwood can be found in riparian areas. The Aspen Ridge area is also home to a significant stand of aspen. The understory is home to a variety of plant species, including blue grama grass, mountain muhly, Indian ricegrass, Arizona fescue, blue bunchgrass, prickly pear, cholla, yucca, isolated pockets of alpine bluegrass, and the endemic Brandegee's buckwheat. A stunning array of wildflowers such as the scarlet gilia and larkspur bloom here during the spring and summer. Near Ruby Mountain, imperiled plant species such as Fendler's Townsend-daisy, Fendler's false cloak-fern, livemore fiddleleaf, and the endemic Front-Range alumroot can be found. The plant community in this area has repeatedly evolved during periods of climate change since the Eocene Epoch. Geologic and climatic changes since the Precambrian have made the area an important site for research on geology and paleoecology as well as the effects of climate change, wildland fire, and other disturbances on plant and animal communities.

Some of Colorado's most emblematic animal species call Browns Canyon home. Mountain lions, bighorn sheep, mule deer, bobcat, red and gray fox, American black bear, coyote, American pine marten, kangaroo rat, elk, and several species of tree and ground squirrels can all be found in the Browns Canyon area, which provides essential habitat for mammals and birds alike and attracts hunters and wildlife viewers. Raptors such as red-tailed hawks, Swainson's hawks, golden eagles, turkey vultures, and prairie falcons make their homes in the rocky cliffs and prey upon the abundance of small animals that live in this area. The area also provides habitat suitable for peregrine falcons, which have been identified for possible future reintroduction here, as well as potential habitat for the threatened Canada lynx. A stunning diversity of other bird species, including the cliff swallow, Canada jay, mourning dove, flicker, blue jay, wild turkey, great horned owl, western screech owl, and saw whet owl, attract ornithologists and bird enthusiasts alike to these remote hills.

A number of reptile and amphibian species occur in the area, including the sensitive boreal toad and northern leopard frog. The Browns Canyon area represents one of the only riparian ecosystems along the Arkansas River that remains relatively undisturbed and contains an intact biotic community.

The protection of the Browns Canyon area will preserve its prehistoric and historic legacy and maintain its diverse array of scientific resources, ensuring that the prehistoric, historic, and scientific values remain for the benefit of all Americans. The area also provides world class river rafting and outdoor recreation opportunities, including hunting, fishing, hiking, camping, mountain biking, and horseback riding.

WHEREAS section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS it is in the public interest to preserve the objects of scientific and historic interest on the lands in and around Browns Canyon;

NOW, THEREFORE, I, BARACK OBAMA, President of the United States of America, by the authority vested in me by section 320301 of title 54, United States Code, hereby proclaim the objects identified above that are situated upon lands and interests in lands owned or controlled by the Federal Government to be the Browns Canyon National Monument (monument) and, for the purpose of protecting those objects, reserve as part thereof all lands and interests in lands owned or controlled by the Federal Government within the boundaries described on the accompanying map, which is attached to and forms a part of this proclamation. These reserved Federal lands and interests in lands encompass approximately 21,586 acres. The boundaries described on the accompanying map are confined to the smallest area compatible with the proper care and management of the objects to be protected.

All Federal lands and interests in lands within the boundaries described in the accompanying map are hereby appropriated and withdrawn from all forms of entry, location, selection, sale, leasing, or other disposition under the public land laws or laws applicable to the U.S. Forest Service, including location, entry, and patent under the mining laws, and from disposition under all laws relating to mineral and geothermal leasing, other than by exchange that furthers the protective purposes of the monument.

The establishment of the monument is subject to valid existing rights. Lands and interests in lands not owned or controlled by the Federal Government within the boundaries described on the accompanying map shall be reserved as a part of the monument, and objects identified above that are situated upon those lands and interests in lands shall be part of the monument, upon acquisition of ownership or control by the Federal Government.

The Secretary of the Interior and the Secretary of Agriculture (Secretaries) shall manage the monument through the Bureau of Land Management (BLM) and the U.S. Forest Service (USFS), pursuant to their respective applicable legal authorities, to implement the purposes of this proclamation. The USFS shall manage that portion of the monument within the boundaries of the National Forest System (NFS), and the BLM shall manage the remainder of the monument. The lands administered by the BLM shall be managed as a unit of the National Landscape Conservation System, pursuant to applicable legal authorities, including, as applicable, the provisions of section 603 of the Federal Land Policy and Management Act (43 U.S.C. 1782) governing the management of wilderness study areas. The lands administered by the USFS shall be managed as part of the Pike and San Isabel National Forests and Cimarron and Comanche National Grasslands.

For purposes of protecting and restoring the objects identified above, the Secretaries shall jointly prepare a management plan for the monument and shall promulgate such regulations for its management as deemed appropriate. In developing any management plans and any management rules and regulations governing NFS lands within the monument, the Secretary of Agriculture, through the USFS, shall consult with the Secretary of the Interior through the BLM. The Secretaries shall provide for public involvement in the development of the management plan including, but not limited to, consultation with tribal, State, and local governments. In the development and implementation of the management plan, the Secretaries shall maximize opportunities, pursuant to applicable legal authorities, for shared resources, operational efficiency, and cooperation.

Except for emergency or authorized administrative purposes, motorized and mechanized vehicle use in the monument shall be allowed only on roads and trails designated for such use, consistent with the care and management of the objects identified above. After the date of this proclamation, new roads or trails may only be designated for motorized vehicle use in areas west of the Arkansas River and at the Ruby Mountain Recreation Site and then only as necessary to provide reasonable river or campground access, consistent with the applicable management plan. Forest Road 184 may be realigned or improved only if for the care and management of the objects identified above or as necessary for public safety.

Nothing in this proclamation affects or shall be deemed to preclude the Secretaries from reissuing existing authorizations or agreements for the cooperative administration of the Arkansas Headwaters Recreation Area. New or modified authorizations or agreements for such purpose may be issued, consistent with the care and management of the objects identified above. The Secretaries also may authorize and reauthorize commercial recreational services within the monument, including outfitting and guiding, consistent with the care and management of the objects identified above.

Nothing in this proclamation shall be deemed to affect the operation or use of the existing railroad corridor as a railroad right of way pursuant to valid existing rights or for recreational purposes consistent with the care and management of the objects identified above.

Nothing in this proclamation shall be deemed to enlarge or diminish the rights of any Indian tribe. The Secretaries shall, to the maximum extent permitted by law and in consultation with Indian tribes, ensure the protection of Indian sacred sites and traditional cultural properties in the monument and provide access by members of Indian tribes for traditional cultural and customary uses, consistent with the American Indian Religious Freedom Act (42 U.S.C. 1996) and Executive Order 13007 of May 24, 1996 (Indian Sacred Sites).

Laws, regulations, and policies followed by the BLM or the USFS in issuing and administering grazing permits or leases on lands under their jurisdiction shall continue to apply with regard to the lands in the monument, consistent with the care and management of the objects identified above.

This proclamation does not alter or affect the valid existing water rights of any party, including the United States. This proclamation does not reserve water as a matter of Federal law, and the inclusion of the land underlying the Arkansas River in the monument shall not be construed to reserve such a right. This proclamation does not alter or affect agreements governing the management and administration of Arkansas River flows, including the Voluntary Flow Management Program.

Nothing in this proclamation shall be deemed to enlarge or diminish the jurisdiction of the State of Colorado, including its jurisdiction and authority with respect to fish and wildlife management.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this nineteenth day of February, in the year of our Lord two thousand fifteen, and of the Independence of the United States of America the two hundred and thirty-ninth.

Billing code 3295-F5

[FR Doc. 2015-03972

Filed 2-23-15; 11:15 a.m.]

Billing code 4310-C